SOCIAL SECURITY ADMINISTRATION

[Docket No. SSA-2021-0052]

Privacy Act of 1974; System of Records

AGENCY: Social Security Administration (SSA).

ACTION: Notice of a modified system of records.

SUMMARY: In accordance with the Privacy Act of 1974, we are issuing public notice of our intent to modify an existing system of records entitled, Reasonable Accommodation for Persons with Disabilities, Social Security Administration (60-0315), last published on October 25, 2005. This notice publishes details of the modified system as set forth below under the caption, SUPPLEMENTARY INFORMATION.

DATES: The system of records notice (SORN) is applicable upon its publication in today's Federal Register, with the exception of the new routine uses, which are effective February 3, 2022.

We invite public comment on the new routine uses or other aspects of the modifications to this SORN. In accordance with the Privacy Act of 1974, the public is given a 30-day period in which to submit comments. Therefore, please submit any comments by February 3, 2022.

ADDRESSES: The public, Office of Management and Budget (OMB), and Congress may comment on this publication by writing to the Executive Director, Office of Privacy and Disclosure, Office of the General Counsel, SSA, Room G-401 West High Rise, 6401 Security Boulevard, Baltimore, Maryland 21235-6401, or through the Federal e-Rulemaking Portal at http://www.regulations.gov. Please reference docket number SSA-2021-0052. All comments we receive will be available for public inspection at the above address and we will post them to http://www.regulations.gov.

FOR FURTHER INFORMATION CONTACT: Elizabeth Boorstein, Government Information Specialist, Privacy Implementation Division, Office of Privacy and Disclosure, Office of the General Counsel, SSA, Room G-401 West High Rise, 6401 Security Boulevard, Baltimore, Maryland 21235-6401, telephone: (410) 966-5855, email: Elizabeth.Boorstein@ssa.gov.

SUPPLEMENTARY INFORMATION: We are modifying the system of records name from “Reasonable Accommodation for Persons with Disabilities” to “Reasonable Accommodation Database” to reflect the broadened scope of the system of records to cover the collection and use of reasonable accommodation requests for medical and religious exceptions, in accordance with Executive Order (E.O.) 14043 on Requiring Coronavirus Disease 2019 Vaccination for Federal Employees (dated September 9, 2021). In addition to the E.O., we are also updating the authorities for this system to include the Title VII of the Civil Rights Act, 42 U.S.C. 2000e, and the Religious Freedom Restoration Act (RFRA), 42 U.S.C. 2000bb-1(a), et seq.

To support the implementation of E.O. 14043, we are modifying most sections of the SORN to reflect the added collection and use of information to provide medical and religious accommodations to federal employees, prospective employee applicants, and agency staff who are not federal employees but work on behalf of the agency who request an exception to vaccination requirements. In addition, due to an Agency reorganization, the system manager and locations have changed since the last version of the RA SORN was published. We are also publishing updated records retention schedules and administrative, technical and physical safeguards to reflect updated information. Finally, we are modifying the notice throughout to correct miscellaneous stylistic formatting and typographical errors of the previously published notice, and to ensure the language reads consistently across multiple systems. We are republishing the entire notice for ease of reference.

In accordance with 5 U.S.C. 552a(r), we provided a report to OMB and Congress on this modified system of records.

Matthew Ramsey,
Executive Director, Office of Privacy and Disclosure, Office of the General Counsel.

SYSTEM NAME AND NUMBER:

Reasonable Accommodation (RA) Database, 60-0315.

SECURITY CLASSIFICATION:

Unclassified.

SYSTEM LOCATION:

IN HEADQUARTERS:

Office of the Chief Actuary, Social Security Administration, 6401 Security Boulevard, Baltimore, Maryland 21235-6401.

Office of the Inspector General, Social Security Administration, 6401 Security Boulevard, Baltimore, Maryland 21235-6401.

Office of the General Counsel, Social Security Administration, 6401 Security Boulevard, Baltimore, Maryland 21235- 6401.

Office of Civil Rights and Equal Opportunity, Social Security Administration, 6401 Security Boulevard, Baltimore, Maryland 21235-6401.

Office of Communications, Social Security Administration, 6401 Security Boulevard, Baltimore, Maryland 21235-6401.

Office of Budget, Finance, and Management, Social Security Administration, 6401 Security Boulevard, Baltimore, Maryland 21235-6401.

Office of Human Resources, Social Security Administration, 6401 Security Boulevard, Baltimore, Maryland 21235-6401.

Office of Legislation and Congressional Affairs, Social Security Administration, 6401 Security Boulevard, Baltimore, Maryland 21235-6401.

Office of Operations, Social Security Administration, 6401 Security Boulevard, Baltimore, Maryland 21235-6401.

Office of Retirement and Disability Policy, Social Security Administration, 6401 Security Boulevard, Baltimore, Maryland 21235-6401.

Office of Systems, Social Security Administration, 6401 Security Boulevard, Baltimore, Maryland 21235-6401.

FOR OFFICE OF CENTRAL OPERATIONS:

Manager, Civil Rights and Equal Opportunity Staff, Social Security Administration, Office of Central Operations, 1500 Woodlawn Drive, Security West Tower, Suite 7000, Baltimore, Maryland 21241.

REGIONAL ADDRESSES:

Civil Rights and Equal Opportunity Regional Manager, Boston Region, Social Security Administration, JFK Federal Building, Room 1900, Boston, Massachusetts 02203-1900.

Civil Rights and Equal Opportunity Regional Manager, New York Region, Social Security Administration, 26 Federal Plaza, Room 40-130, New York, New York 10278.

Civil Rights and Equal Opportunity Regional Manager, Philadelphia Region, Social Security Administration, 7th Floor, 300 Spring Garden Street, Philadelphia, Pennsylvania 19123.

Civil Rights and Equal Opportunity Regional Manager, Atlanta Region, Social Security Administration, Atlanta Region, 61 Forsyth Street SW, Suite 23T29, Atlanta, Georgia 30303.

Civil Rights and Equal Opportunity Regional Manager, Chicago Region, Social Security Administration, 600 West Madison Street, 10th Floor, Chicago, Illinois 60661.

Civil Rights and Equal Opportunity Regional Manager, Dallas Region, Social Security Administration, 1301 Young Street, Suite 525, Dallas, Texas 75202.

Civil Rights and Equal Opportunity Regional Manager, Kansas City Region, Social Security Administration, 601 East 12th Street, Suite 1028, Kansas City, Missouri 64106.

Civil Rights and Equal Opportunity Regional Manager, Denver Region, Social Security Administration, 1961 Stout Street, Denver, Colorado 80294.

Civil Rights and Equal Opportunity Regional Manager, San Francisco Region, Social Security Administration, 1221 Nevin Avenue, 6th Floor, Richmond, California 94804.

Civil Rights and Equal Opportunity Regional Manager, Seattle Region, Social Security Administration, 701 5th Avenue, Suite 2900, Mail Stop 291A, Seattle, Washington 98104-7075.

ServiceNow, 2225 Lawson Lane, Santa Clara, CA 95054.

SYSTEM MANAGER(S):

Office of Civil Rights and Equal Opportunity, Social Security Administration, 6401 Security Boulevard, Baltimore, Maryland 21235-6401, (410) 966-5855.

AUTHORITY FOR MAINTENANCE OF THE SYSTEM:

The Rehabilitation Act of 1973 (29 U.S.C. 791, et seq.), as amended, and implementing regulations at 29 CFR 1614.203; the Americans with Disabilities Act of 1990 (42 U.S.C. 12101, et seq.), as amended; Executive Order 14043 on Requiring Coronavirus Disease 2019 Vaccination for Federal Employees (dated September 9, 2021); Executive Order 13164 on Requiring Federal Agencies To Establish Procedures To Facilitate the Provision of Reasonable Accommodation (dated July 26, 2000); Equal Employment Opportunity Commission's Policy Guidance on Executive Order 13164: Establishing Procedures to Facilitate the Provision of Reasonable Accommodation, Directives Transmittal Number 915.003 (dated October 20, 2000); Religious Freedom Restoration Act (RFRA), 42 U.S.C. 2000bb-1(a), et seq.; and Title VII of the Civil Rights Act of 1964 (42 U.S.C. 2000e, et seq.), as amended, and implementing regulations at 29 CFR 1600, et seq.

PURPOSE(S) OF THE SYSTEM:

The purpose of this system is to maintain information on individuals who request a reasonable accommodation (RA) and the processing of and decision on such requests. Examples of requests received include:

• A qualified employment applicant with a disability needs an accommodation to be considered for a job;

• A qualified employee with a disability needs an accommodation to enable the employee to perform the essential functions of the job or to gain access to the workplace;

• A qualified employee needs the assistance of a personal attendant service to perform activities of daily living that an individual with a targeted disability would typically perform, if he or she did not have a disability, and that is not otherwise required as a reasonable accommodation;

• A qualified employee with a disability needs an accommodation to enjoy equal benefits and privileges of employment; and

• A qualified employee who requests a medical or religious exception to vaccination requirements for federal employees (e.g., E.O. 14043 Requiring Coronavirus Disease 2019 Vaccinations for Federal Employees).

CATEGORIES OF INDIVIDUALS COVERED BY THE SYSTEM:

This system maintains information on applicants for employment and employees who have requested a RA, agency staff who are not federal employees but work on behalf of the agency, and third parties who may make an accommodation request on behalf of an applicant or employee.

CATEGORIES OF RECORDS IN THE SYSTEM:

The system maintains records relating to RA requests, such as:

• The requester's name, RA/ID number and type(s) of RA requests and whether those requests have been granted or denied;

• If requesting a reasonable accommodation for a medical diagnosis or disability, medical documentation to support the request;

• If requesting a reasonable accommodation for a sincerely held religious belief, practice, or observance, religious and medical documentation to support the request;

• Results of testing, when relevant to a request;

• Vaccination history, when relevant to a request;

• Number and types of RAs that have been requested in the application process and whether those requests have been granted or denied;

• Jobs (Occupational series, grade level and Agency component) for which RAs have been requested;

• Number and types of RAs for each job, by Agency component, that have been approved, and denied;

• Number and types of RA requests that relate to the benefits or privileges of employment, and whether those requests have been granted or denied;

• Reasons for denial of requests for RA;

• Amount of time taken to process each request for RA; and

• Sources of technical assistance that have been consulted in identifying possible RAs.

RECORD SOURCE CATEGORIES:

We obtain information in this system of records from requesting applicants, employees, agency staff who are not federal employees but work on behalf of the agency, third parties, and SSA officials.

ROUTINE USES OF RECORDS MAINTAINED IN THE SYSTEM, INCLUDING CATEGORIES OF USERS AND THE PURPOSE OF SUCH USES:

We will disclose records pursuant to the following routine uses; however, we will not disclose any information defined as “return or return information” under 26 U.S.C. 6103 of the Internal Revenue Code, unless authorized by a statute, the Internal Revenue Service (IRS), or IRS regulations.

1. To the Office of the President, in response to an inquiry received from that office made on behalf of, and at the request of, the subject of record or a third party acting on the subject's behalf.

2. To a congressional office in response to an inquiry from that office made on behalf of, and at the request of, the subject of a record or a third party acting on the subject's behalf.

3. To the Department of Justice (DOJ), a court or other tribunal, or another party before such tribunal when:

(a) SSA, or any component thereof; or

(b) any SSA employee in an official capacity; or

(c) any SSA employee in an individual capacity where DOJ (or SSA where it is authorized to do so) has agreed to represent the employee; or

(d) the United States or any agency thereof, where SSA determines that the litigation is likely to affect the operations of SSA or any of its components, is party to litigation or has an interest in such litigation, and SSA determines that the use of such records by DOJ, a court or other tribunal, or another party before the tribunal, is relevant and necessary to the litigation, provided, however, that in each case, SSA determines that such disclosure is compatible with the purpose for which the records were collected.

4. To the Equal Employment Opportunity Commission (Commission), when requested in connection with investigations into alleged or possible discriminatory practices in the Federal sector, examination of Federal affirmative employment programs, compliance by Federal agencies with Uniformed Guidelines on Employee Selection Procedures, or other functions vested in the Commission.

5. To the Federal Labor Relations Authority, its General Counsel, the Federal Mediation and Conciliation Service, the Federal Service Impasses Panel, or an arbitrator when information is requested in connection with investigations of allegations of unfair practices, matters before an arbitrator or the Federal Service Impasses Panel.

6. To the Office of Personnel Management or the Merit Systems Protection Board (including the Office of Special Counsel) when information is requested in connection with appeals, special studies of the civil service and other merit systems, review of those agencies' rules and regulations, investigation of alleged or possible prohibited personnel practices, and for such other functions of these agencies as may be authorized by law, (e.g., 5 U.S.C. 1205 and 1206).

7. To contractors and other Federal agencies, as necessary, for the purpose of assisting SSA in the efficient administration of its programs. We will disclose information under this routine use only in situations in which SSA may enter into a contractual or similar agreement with a third party to assist in accomplishing an SSA function relating to this system of records.

8. To student volunteers, individuals working under a personal services contract, and other workers who technically do not have the status of Federal employees, when they are performing work for SSA, as authorized by law, and they need access to personally identifiable information (PII) in SSA records in order to perform their assigned agency functions.

9. To the National Archives and Records Administration (NARA) under 4 U.S.C. 2904 and 2906.

10. To Federal, State, and local law enforcement agencies and private security contractors, as appropriate, information necessary:

(a) To enable them to protect the safety of SSA employees and customers, the security of the SSA workplace, the operation of SSA facilities, or

(b) to assist investigations or prosecutions with respect to activities that affect such safety and security or activities that disrupt the operation of SSA facilities.

11. To appropriate agencies, entities, and persons when:

(a) SSA suspects or has confirmed that there has been a breach of the system of records;

(b) SSA has determined that as a result of the suspected or confirmed breach there is a risk of harm to individuals, SSA (including its information systems, programs, and operations), the Federal Government, or national security; and

(c) the disclosure made to such agencies, entities, and persons is reasonably necessary to assist in connection with SSA's efforts to respond to the suspected or confirmed breach or to prevent, minimize, or remedy such harm.

12. To another Federal agency or Federal entity, when SSA determines that information from this system of records is reasonably necessary to assist the recipient agency or entity in:

(a) Responding to a suspected or confirmed breach; or

(b) preventing, minimizing, or remedying the risk of harm to individuals, the recipient agency or entity (including its information systems, programs, and operations), the Federal Government, or national security, resulting from a suspected or confirmed breach.

13. To third parties when an individual involved with a request needs assistance to communicate because of a hearing impairment or a language barrier exists (e.g., interpreters, telecommunications relay system operators).

14. To federal, state, and local health departments, and other health, first aid and safety personnel, when appropriate, if an individual might require emergency treatment or to respond to exposures or reports of communicable diseases.

POLICIES AND PRACTICES FOR STORAGE OF RECORDS IN THE SYSTEM:

We will maintain records in this system in electronic and paper form.

POLICIES AND PRACTICES FOR RETRIEVAL OF RECORDS:

We will retrieve records in this system by applicant name, employee's name, name of agency staff member who is not a federal employee but works on behalf of the agency, and/or RA/ID Number.

POLICIES AND PRACTICES FOR RETENTION AND DISPOSAL OF RECORDS:

In accordance with NARA rules codified at 36 CFR 1225.16, we maintain records in accordance with the approved NARA General Records Schedule 1, Section 24.

ADMINISTRATIVE, TECHNICAL, AND PHYSICAL SAFEGUARDS:

We retain electronic and paper files containing personal identifiers in secure storage areas accessible only by our authorized personnel who have a need for the information when performing their official duties. Security measures include, but are not limited to, the use of codes and profiles, personal identification number and password, and personal identification verification cards. We restrict access to specific correspondence within the system based on assigned roles and authorized users. We use audit mechanisms to record sensitive transactions as an additional measure to protect information from unauthorized disclosure or modification. We keep paper records in locked cabinets within secure areas, with access limited to only those employees who have an official need for access in order to perform their duties.

We annually provide our employees and contractors with appropriate security awareness training that includes reminders about the need to protect PII and the criminal penalties that apply to unauthorized access to, or disclosure of, PII (5 U.S.C. 552a(i)(1)). Furthermore, employees and contractors with access to databases maintaining PII must annually sign a sanctions document that acknowledges their accountability for inappropriately accessing or disclosing information.

RECORD ACCESS PROCEDURES:

Individuals may submit requests for information about whether this system contains a record about them by submitting a written request to the system manager at the above address, which includes their name, RA/ID number, or other information that may be in this system of records that will identify them. Individuals requesting notification of, or access to a record by mail must include: (1) A notarized statement to us to verify their identity; or (2) must certify in the request that they are the individual they claim to be and that they understand that the knowing and willful request for, or acquisition of, a record pertaining to another individual under false pretenses is a criminal offense.

Individuals requesting notification of or access to, records in person must provide their name, RA/ID number, or other information that may be in this system of records that will identify them, as well as provide an identity document, preferably with a photograph, such as a driver's license. Individuals lacking identification documents sufficient to establish their identity must certify in writing that they are the individual they claim to be and that they understand that the knowing and willful request for, or acquisition of, a record pertaining to another individual under false pretenses is a criminal offense.

These procedures are in accordance with our regulations at 20 CFR 401.40 and 401.45.

CONTESTING RECORD PROCEDURES:

Same as record access procedures. Individuals should also reasonably identify the record, specify the information they are contesting, and state the corrective action sought and the reasons for the correction with supporting justification showing how the record is incomplete, untimely, inaccurate, or irrelevant. These procedures are in accordance with our regulations at 20 CFR 401.65(a).

NOTIFICATION PROCEDURES:

Same as records access procedures. These procedures are in accordance with our regulations at 20 CFR 401.40 and 401.45.

EXEMPTIONS PROMULGATED FOR THE SYSTEM:

None.

HISTORY:

70 FR 62157, Reasonable Accommodation for Persons with Disabilities.

72 FR 69723, Reasonable Accommodation for Persons with Disabilities.

83 FR 54969, Reasonable Accommodation for Persons with Disabilities.

[FR Doc. 2021-28495 Filed 1-3-22; 8:45 am]

BILLING CODE 4191-02-P